DEPARTMENT OF JUSTICE

Antitrust Division

Notice Pursuant to the National Cooperative Research and Production Act of 1993—Medical Technology Enterprise Consortium

Notice is hereby given that, on September 29, 2017, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, 2C4 Technologies, Inc., San Antonio, TX; Actuated Medical, Inc., Bellefonte, PA; American Type Culture Collection (ATCC Federal Solutions), Manassas, VA; Amethyst Technologies, LLC, Baltimore, MD; Anu Life Sciences, Sunrise, FL; Arteriocyte, Inc. d/b/a/Compass Biomedical, Hopkinton, MA; Charles River Analytics, Inc., Cambridge, MA; Chimerix, Inc., Durham, NC; Cole Engineering Services, Inc., Orlando, FL; Corvid Technologies, Mooresville, NC; Daxor Corporation, New York, NY; Elemance, LLC, Clemmons, NC; Emergent BioSolutions, Gaithersburg, MD; Human Biomed, Inc., South Burlington, VT; L-3 Applied Technologies, Inc., San Diego, CA; LifeLink Foundation, Inc., Tampa, FL; MalarVx, Inc., Seattle, WA; Manzanita Pharmaceuticals, Inc., Woodside, CA; Medtronic, Minneapolis, MN; Melinta Therapeutics, Inc., New Haven, CT; Neuroplast BV, Maastricht, NETHERLANDS; Platelet BioGenesis, Inc., Boston, MA; RegeniSource LLC, San Antonio, TX; Remedor Biomed Ltd., Nazareth lllit, ISRAEL; Roccor, LLC, Longmont, CO; Soar Technology, Inc., Ann Arbor, MI; SynDaver Labs, Tampa, FL; The Board of Supervisors of Louisiana State University and Agricultural & Mechanical College herein represented by Louisiana State University Health Sciences Center in New Orleans (LSUHSC), New Orleans, LA; The Medical College of Wisconsin, Inc., Milwaukee, WI; The Metis Foundation, San Antonio, TX; University of Iowa, Iowa city, IA; University of Maryland, College Park, MD; Vcom3D, Inc., Orlando, FL, and Vivacelle Bio, Inc., Chicago, IL have been added as parties to this venture.

Also, Applied Medical Device Institute (aMDI)—Grand Valley State University, Grand Rapids, MI; Aptus, LLC, Clemson, SC; Ellipsis Technologies, Inc., Greenville, SC; Johns Hopkins University, Baltimore, MD; Longeveron LLC, Miami, FL; Lovelace Biomedical and Environmental Research Institute, Albuquerque, NM; MicroCures, Inc., Santa Cruz, CA; New York Institute of Technology, Old Westbury, NY; NGT-VC 2012 Limited Partnership (NGT3), Nazareth, ISRAEL; and Otologic Pharmaceutics Inc., Oklahoma City, OK, have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on June 23, 2017. A notice was published in the Federal Register pursuant to Section 6(b) of the Act on August 15, 2017(82 FR 38708).

Patricia A. Brink,
Director of Civil Enforcement, Antitrust Division.

[FR Doc. 2017-24101 Filed 11-3-17; 8:45 am]

BILLING CODE P